DEPARTMENT OF AGRICULTURE

Forest Service

Conejos Peak Ranger District, Rio Grande National Forest; Colorado; Cumbres Vegetation Management Project

AGENCY : Forest Service, USDA.

ACTION: Notice of intent to prepare an environmental impact statement.

SUMMARY: The Conejos Peak Ranger District, Rio Grande National Forest, proposes to salvage timber stands killed or infested by spruce beetles; reduce fuel loading, particularly adjacent to private lands; cut potential hazard trees along private property, roads, and other infrastructure; and regenerate forested acres, as needed, to move toward the long-term desired conditions described in the Forest Plan.

DATES: Comments concerning the scope of the analysis must be received by August 28, 2013. The draft environmental impact statement is expected in September 2013 and the final environmental impact statemen t is expected in November 2013.

ADDRESSES: Send written comments to Diana McGinn, Team Leader, San Luis Valley Publ ic Land Center, 1803 W. Hwy 160, Monte Vista, CO 81144. Commen ts may also be sent via e-mail to comments-rockv-mountain-rio-qrande-conejos-peak@fs.fed.us, or via facsimile to 719-852-6250, with subject Cumbres Vegetation Management Project.

FOR FURTHER INFORMATION CONTACT: Diana McGinn at 719-852-6241 or visit the Forest Web site: http://www.fs.usda.gov/projects/riogrande/landmanagement/projects.

Individuals who use telecommunication devices for the deaf (TDD) may call the Federal Information Relay Service (FIRS) at 1-800-877-8339 between 8 a.m. and 8 p.m ., Eastern Time, Monday through Friday.

SUPPLEMENTARY INFORMATION:

Purpose and Need for Action

The purpose an d need for the Cumbres Vegeta tion Management Project is move toward achieving long-term desired conditions described in the Forest Plan for this area following extensive tree mortality caused by epidemic levels of spruce beetles. Actions taken to meet these goals would include: (1) Harvesting dead and dying trees to provide wood products, while reducing the continuous extent of large fuels, particularly around private lands; (2) removing trees that create a potential safety hazard in areas of concentrated public use or that have the potential to damage public or private propert y as they fall; (3) Re-plant portions of harvested s t ands to speed ecological recovery.

Proposed Action

The Rio Grande National Forest proposes to harvest and regenerate timber stands killed by or infested with spruce beetles in an area located approximately 23 miles west of Antonito. Colorado. The project would use the existing transportation system except for the construction or re-use of approximately 8.3 miles of temporary road segments. All temporary roads would be rehabilitated and closed following use. Tree planting would follow harvest operations in areas with inadequate existing regeneration and where aspen sprouting is unlikely, in order to maintain diverse forest cover over the long-term.

Responsible Official

Conejos Peak District Ranger at 15571 County Road T5, La J ara, CO, 81140.

Nature of Decision To Be Made

An environmental impact statement (EIS) that discloses the environmental consequences of implementing the proposed action and alternatives to the proposed action, including No Action, will be prepared. A separate Record of Decision (ROD) wlll explain the Responsible Official's decision regarding whether or not to implement some level of timber harvest and other proposed activities on alL part. cr none cf the area analyzed, given the consideration of multiple- use goals and objectives.

Preliminary Issues

The effect of proposed activities on soil and watershed condition and on the habitat structural needs of the local populati on of Canada Lynx, a Threatened species, and their primary prey, the snowshoe hare.

Scoping Process

This notice of intent initiates the scoping process, which guides the development of the environmental impact statement . The Forest invites public comment and participation for this project by publication of this notice. Comments are also invited by: publication in the quarterly Schedule of Proposed Actions (SOPA): public notice regarding this project i n the newspaper of record, the Valley Courier: letters to potentially interested individuals, tribal governments, elected officials, and State and other Federal Agencies. Information will also be posted on the Rio Grande National Forest project Web site as this project progresses. Comments received during these and other scopin g efforts will be considered in this EIS.

It is the responsibility of persons providing comments to submit them by the close of the conunent period. Only those who submit timely and specific written comments will have eligibility (36 CFR 218.5) to file an objection under 36 CFR 218.8. Therefore, comments should be provided prior to the close of the scoping period and should clearly articulate the reviewer's concerns and contentions.

Conunents received in response to this solicitation, including names and addresses of those who comment will be part of the public record for this proposed action. Comments submitted anonymously will be accepted and considered; however anonymous comments will not provide the Agency with the ability to provide the respondent with subsequent environmental documents.

Dated: July 17, 2013.
Andrea Jones,
District Ranger.

[FR Doc. 2013-17968 Filed 07/26/2013 at 8:45 a.m.; Publication Date: 07/29/2

[FR Doc. 2013-17968 Filed 7-26-13; 8:45 am]

BILLING CODE 3410-11-P